DEPARTMENT OF ENERGY

Electricity Advisory Committee

AGENCY: Department of Energy, Office of Electricity Delivery and Energy Reliability.

ACTION: Notice of open meeting.

SUMMARY: The Department of Energy, Office of Electricity Delivery and Energy Reliability established the Electricity Advisory Committee on January 29, 2008 for a two-year period. The Committee was created to provide advice to the Assistant Secretary for Electricity Delivery and Energy Reliability, on long range planning and priorities for the modernization of the Nation's electricity delivery infrastructure. The Electricity Advisory Committee will hold a two-day meeting in Washington DC to discuss drafts of reports and electricity policy recommendations that the Committee may later submit to the Department of Energy.

DATES: September 25, 2008, 3:30 p.m. to 6 p.m. September 26, 2008, 8:30 a.m. to 2 p.m.

Location: September 25, 2008, Ronald Reagan Building and International Trade Center, 1300 Pennsylvania Avenue, NW., Washington, DC 20004. September 26, 2008, L'Enfant Plaza Hotel, 480 L'Enfant Plaza, SW., Washington, DC 20024, Ballrooms C and D.

FOR FURTHER INFORMATION CONTACT: David Meyer, DOE Office of Electricity Delivery and Energy Reliability, (202) 586-1411, david.meyer@hq.doe.gov.

SUPPLEMENTARY INFORMATION: Tentative Agenda: Discuss drafts of reports and electricity policy recommendations.

Public Participation: The meeting will be open to the public. Members of the public who wish to speak or submit comments should contact David Meyer at david.meyer@hq.doe.gov, or (202) 586-1411. Copies of draft reports, the agenda for the meeting, and additional information are available at the EAC Web site: http://www.oe.energy.gov/eac_ meetings.htm.

Minutes: The minutes from this meeting will also be posted to this website within 45 days following the meeting.

Issued in Washington, DC on September 4, 2008.
Rachel Samuel,
Committee Management Officer.

[FR Doc. E8-20848 Filed 9-8-08; 8:45 am]

BILLING CODE 6450-01-P